NATIONAL FOUNDATION ON THE ARTS AND THE HUMANITIES

National Endowment for the Humanities

Agency Information Collection Request; 60-Day Public Comment Request

AGENCY: National Endowment for the Humanities; National Foundation on the Arts and the Humanities.

ACTION: Notice; request for comments.

SUMMARY: In accordance with the Paperwork Reduction Act of 1995, the National Endowment for the Humanities (NEH) is seeking comment concerning a proposed revision to an existing information collection that it uses to survey agency funding recipients.

DATES: Please submit comments by June 12, 2020.

ADDRESSES: Submit electronic comments to Mr. Timothy Carrigan, Chief Funding Opportunity Officer, Office of Grant Management, National Endowment for the Humanities: 400 Seventh Street SW, Washington, DC 20506, or tcarrigan@neh.gov.

FOR FURTHER INFORMATION CONTACT: Mr. Timothy Carrigan, Chief Funding Opportunity Officer, Office of Grant Management, National Endowment for the Humanities: 400 Seventh Street SW, Washington, DC 20506, (202) 606-8377, or tcarrigan@neh.gov.

SUPPLEMENTARY INFORMATION:

Overview of This Information Collection

Type of Review: Revision of an existing information collection.

Title of Information Collection: General Clearance Authority to Develop Grantee Survey Instruments for the National Endowment for the Humanities.

Abstract: The National Endowment for the Humanities is seeking to revise its general clearance authority to develop survey instruments for recipients of its grant programs. The NEH regularly monitors its grants, relying primarily on data obtained in performance reports. In many instances, outcomes are not readily observable during the one- to three-year period of performance. The clearance to collect data from grant recipients beyond the period of performance is essential to the NEH's ability to assess it programs systemically and to measure progress in achieving the goals articulated in the agency's strategic plan.

The proposed revision adjusts the overall burden estimate from 580 to 615 hours, to reflect the anticipated change in the number of respondents from 1,160 to 1,230. The estimated time per response remains unchanged.

OMB Number: 3136-0139.

Affected Public: NEH grant recipients.

Frequency of Collection: On occasion.

Total Respondents: 1,230.

Total Responses: 1,230.

Estimated Time per Response: 30 minutes.

Estimated Total Burden Hours: 615 hours.

Request for Comments

NEH will make comments submitted in response to this notice, including names and addresses where provided, a matter of public record. NEH will summarize the contents and include them in the request for OMB approval. We are requesting comments on all aspects of this clearance request, including (a) whether the proposed collection of information is necessary for the proper performance of the functions of the agency, including whether the information will have practical utility; (b) the accuracy of the agency's estimate of the burden of the proposed collection of information; (c) ways to enhance the quality, utility, and clarity of the information to be collected; and (d) ways to minimize the burden of the collection of information on respondents, including through the use of appropriate automated, electronic, mechanical, or other technological collection techniques or other forms of information technology.

Dated: April 7, 2020.
Caitlin Cater,
Attorney-Advisor, National Endowment for the Humanities.

[FR Doc. 2020-07663 Filed 4-10-20; 8:45 am]

BILLING CODE 7536-01-P